DEPARTMENT OF JUSTICE

Drug Enforcement Administration

[Docket No. DEA-659]

Bulk Manufacturer of Controlled Substances Application: Sigma Aldrich Research Biochemicals, Inc.

ACTION: Notice of application.

DATES: Registered bulk manufacturers of the affected basic class(es), and applicants therefore, may file written comments on or objections to the issuance of the proposed registration on or before August 4, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on May 4, 2020, Sigma Aldrich Research Biochemicals, Inc., 400-600 Summit Drive, Burlington, Massachusetts 01803, applied to be registered as a bulk manufacturer of the following basic class(es) of controlled substance:

Controlled substance | Drug code | Schedule
JWH-018 (also known as AM678) 7118 I N 1-Pentyl-3-(1-naphthoyl)indole | 7118 | I

The company plans to manufacture small quantities of the listed controlled substance to make reference standards for distribution to its customers.

William T. McDermott,
Assistant Administrator.

[FR Doc. 2020-12180 Filed 6-4-20; 8:45 am]

BILLING CODE 4410-09-P